DEPARTMENT OF COMMERCE

Foreign-Trade Zones Board

[Docket 22-2012]

Foreign-Trade Zone 94—Laredo, TX; Application for Reorganization Under Alternative Site Framework

An application has been submitted to the Foreign-Trade Zones (FTZ) Board (the Board) by the City of Laredo, grantee of FTZ 94, requesting authority to reorganize the zone under the alternative site framework (ASF) adopted by the Board (74 FR 1170-1173, 01/12/09 (correction 74 FR 3987, 01/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on March 23, 2012.

FTZ 94 was approved by the Board on November 22, 1983 (Board Order 235, 48 FR 53737, 11/29/83), and expanded on March 26, 1990 (Board Order 468, 55 FR 12696, 4/5/90), on December 29, 1992 (Board Order 620, 58 FR 3533, 1/11/93), on January 17, 1997 (Board Order 866, 62 FR 4028, 1/28/97), on November 28, 2000 (Board Order 1130, 65 FR 77851, 12/13/00), and on April 5, 2006 (Board Order 1443, 71 FR 19693, 4/17/06).

The current zone project includes the following sites: Site 1 (491.738 acres)—within the 1,600-acre Laredo International Airport Complex, 5210 Bob Bullock Loop, Laredo; Site 2 (20 acres)—within the Texas Mexican Railway Industrial Park, Highway 359, Webb County; Site 3 (550 acres)—within the 1,400-acre Killam Tract, 12800 Old Miners Road, Laredo; Site 4 (1,500 acres)—within the 7,000-acre International Commerce Center, located adjacent to the Laredo Solitary Bridge crossing into Mexico; Site 5 (930 acres)—La Barranca Ranch, Interstate Highway 35, Laredo; Site 6 (682 acres)—Unitec Industrial Center, Interstate Highway 35, Laredo; Site 7 (831 acres)—within the 1,530-acre Embarcadero Business Park, located at the northwest corner of Mines Road (FM 1472) and Loop 20, Laredo; Site 8 (2.15 acres, expires 8/31/12)—Uni-Trade Forwarding L.C., 130 Flecha Lane, Laredo; Site 9 (1.158 acres, expires 12/31/12)—Kuehne + Nagel, Inc., within the El Portal Industrial Park, 12018 Auburn Road, Laredo; Site 10 (1 acre, expires 2/28/14)—PG Distribution LLC, within the El Portal Industrial Park, 8421 Amparan Road, Laredo; and, Site 11 (3.463 acres, expires 9/30/14)—Sony Electronics, Inc., within the San Isidro East Point Center, 11302 East Point Drive, Building B, Laredo.

The grantee's proposed service area under the ASF would be Webb County, Texas. If approved, the grantee would be able to serve sites throughout the service area based on companies' needs for FTZ designation. The proposed service area is within and adjacent to the Laredo Customs and Border Protection port of entry.

The applicant is requesting authority to reorganize its existing zone project under the ASF as follows: Sites 1 through 7 would become “magnet” sites; and, Sites 8 through 11 would become “usage-driven” sites. The applicant proposes that Site 1 be exempt from “sunset” time limits that otherwise apply to sites under the ASF. No new magnet or usage-driven sites are being requested at this time.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is May 29, 2012. Rebuttal comments in response to material submitted during the foregoing period may be submitted during the subsequent 15-day period to June 12, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: March 23, 2012.
Andrew McGilvray,
Executive Secretary.

[FR Doc. 2012-7594 Filed 3-28-12; 8:45 am]

BILLING CODE P